DEPARTMENT OF THE TREASURY

United States Mint

2022 Pricing of Numismatic Gold, Commemorative Gold, Platinum, and Palladium Products Grid

AGENCY: United States Mint, Department of the Treasury.

ACTION: Notice.

SUMMARY: The United States Mint announces 2022 revisions to include an increase in price for the commemorative gold proof three-coin set within the Numismatic Gold, Commemorative Gold, Platinum, and Palladium Products Grid.

FOR FURTHER INFORMATION CONTACT: Ann Bailey, Numismatic and Bullion Directorate, United States Mint, 801 9th Street NW, Washington, DC 20220, or call 202-354-7500.

SUPPLEMENTARY INFORMATION: An excerpt of the grid with a recent price range for the commemorative gold proof three-coin set appears below:

The complete 2022 Pricing of Numismatic Gold, Commemorative Gold, Platinum, and Palladium Products Grid will be available at https://catalog.usmint.gov/on/demandware.static/-/Sites-USM-Library/default/dw5a13bbe3/images/PDFs/2022-Pricing-Grid-v4.pdf.

Pricing can vary weekly dependent upon the London Bullion Market Association gold, platinum, and palladium prices weekly average. The pricing for all United States Mint numismatic gold, platinum, and palladium products is evaluated every Wednesday and modified as necessary.

Authority: 31 U.S.C. 5111, 5112, & 9701.

Eric Anderson,
Executive Secretary, United States Mint.

[FR Doc. 2021-27807 Filed 12-22-21; 8:45 am]

BILLING CODE P